ENVIRONMENTAL PROTECTION AGENCY

[FRL-7096-2]

Federal NOX Budget Trading Program; Applicability Determination

AGENCY: Environmental Protection Agency (EPA).

ACTION: Notice of applicability determination under Federal NOX Budget Trading Program.

SUMMARY: EPA established 40 CFR part 97, the Federal NOX Budget Trading Program (“the Program”), to reduce interstate transport of ozone under section 126 of the Clean Air Act (“section 126”). The Program applies to existing or new large electric generating units (“EGU's”) and large non-EGU's (as defined at 40 CFR 52.34) in states subject to section 126. EPA finds, in an applicability determination dated October 24, 2001, that Point B015 at Marathon Ashland Petroleum LLC's Plant 1576000301 in Ohio is not subject to the Program because it is not an EGU, since it does not serve a generator, nor is it a non-EGU, since it has less than 250 (166) mmBtu/hr maximum design heat input. Further, it is not a “ NOX Budget unit” as defined at 40 CFR 97.2. Since Point B015 is not subject to the Program, NOX allowances will not be allocated for this unit in EPA's NOX Allowance Tracking System.

DATES: Any comments regarding this applicability determination must be submitted in writing to EPA at the address below no later than November 30, 2001.

ADDRESSES: U.S. EPA, Clean Air Markets Division (6204N), Attn: Robert Miller, 1200 Pennsylvania Avenue, NW., Washington DC, 20460.

FOR FURTHER INFORMATION CONTACT: Robert Miller, U.S. EPA Headquarters, Clean Air Markets Division, (202) 564-9077.

Dated: October 24, 2001.
Brian J. McLean,
Director, Acid Rain Division, Office of Atmospheric Programs, Office of Air and Radiation.

[FR Doc. 01-27382 Filed 10-30-01; 8:45 am]

BILLING CODE 6560-50-P